NUCLEAR REGULATORY COMMISSION

[Docket Nos. 50-315 and 50-316]

Indiana Michigan Power Company and Donald C. Cook Nuclear Plant, Units 1 and 2; Notice of Availability of the Final Supplement 20 to the Generic Environmental Impact Statement for the License Renewal of Donald C. Cook Nuclear Plant, Units 1 and 2

Notice is hereby given that the U.S. Nuclear Regulatory Commission (the Commission) has published a final plant-specific supplement to the “Generic Environmental Impact Statement (GEIS), NUREG-1437,” regarding the renewal of operating licenses DPR-58 and DPR-74 for an additional 20 years of operation at Donald C. Cook Nuclear Plant, Units 1 and 2 (CNP). CNP is located in Berrien County, Michigan, about 55 miles east of Chicago, Illinois. Possible alternatives to the proposed action (license r enewal) include no action and reasonable alternative energy sources.

In Section 9.3 of the final Supplement 20 to the GEIS, the staff concludes that based on: (1) The analysis and findings in the GEIS; (2) the environmental report submitted by Indiana Michigan Power Company; (3) consultation with Federal, State, and local agencies; (4) the staff's own independent review; and (5) the staff's consideration of public comments, the recommendation of the staff is that the Commission determine that the adverse environmental impacts of license renewal for CNP Units 1 and 2 are not so great that preserving the option of license renewal for energy-planning decision makers would be unreasonable.

The final Supplement 20 to the GEIS is available for public inspection in the NRC Public Document Room (PDR) located at One White Flint North, 11555 Rockville Pike, Rockville, Maryland, or from the Publicly Available Records (PARS) component of NRC's Agencywide Documents Access and Management System (ADAMS). ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Bridgman Public Library, 4460 Lake Street, Bridgman, Michigan and the Maud Preston Palenske Memorial Library, 500 Market Street, St. Joseph, Michigan, have agreed to make the final plant-specific supplement to the GEIS available for public inspection.

For Further Information, Contact: Mr. William Dam, License Renewal and Environmental Impacts Program, Division of Regulatory Improvement Programs, U.S. Nuclear Regulatory Commission, Washington, DC 20555. Mr. Dam may be contacted at 301-415-4014 or via e-mail WLD@nrc.gov.

Dated at Rockville, Maryland, this 22nd day of April, 2005.
For the Nuclear Regulatory Commission.
Pao-Tsin Kuo,
Program Director, License Renewal and Environmental Impacts Program, Division of Regulatory Improvement Programs, Office of Nuclear Reactor Regulation.

[FR Doc. 05-8947 Filed 5-4-05; 8:45 am]

BILLING CODE 7590-01-P